DEPARTMENT OF HEALTH AND HUMAN SERVICES

Announcement of Availability of Funds for Adolescent Family Life (AFL) Demonstration Projects

AGENCY: Department of Health and Human Services, Office of the Secretary.

Funding Opportunity Title: Announcement of Availability of Funds for Adolescent Family Life (AFL) Demonstration Projects.

Announcement Type: Initial Competitive Grant.

CFDA Number: 93.995.

Key Dates: To receive consideration, applications must be received by the Office of Public Health and Science (OPHS) Office of Grants Management no later than May 22, 2006. Applications will be considered as meeting the deadline if they are received by the OPHS Office of Grants Management no later than 5 p.m. Eastern Time on the application due date. Applications will not be accepted by fax, nor will the submission deadline be extended. The application due date requirement specified in this announcement supersedes the instructions in the OPHS-1 (revised 08/2004). Applications that do not meet the deadline will be returned to the applicant unread. See heading “APPLICATION and SUBMISSION INFORMATION” for additional information.

Overview: The Office of Adolescent Pregnancy Programs (OAPP) of the Office of Population Affairs (OPA) requests applications for care demonstration grants under the Adolescent Family Life (AFL) Act Demonstration Projects Program, as authorized by Title XX of the Public Health Service (PHS) Act, 42 U.S.C. 300z et seq. Title XX authorizes the Secretary of Health and Human Services to award grants for care demonstration projects to provide services to pregnant adolescents, adolescent parents, and their families. Services are intended to “enable pregnant adolescents to obtain proper care and assist pregnant adolescents and adolescent parents to become productive independent contributors to family and community life” and “to assist families of adolescents to understand and resolve the societal causes which are associated with adolescent pregnancy.” PHS Act § 2001(b)(3)(A) and (B). In addition, Title XX demonstration projects are required to “use such methods as will strengthen the capacity of families to deal with the sexual behavior, pregnancy, or parenthood of adolescents and to make use of support systems such as other family members [and] friends.” PHS Act § 2003. With respect to Title XX care demonstration projects in particular, funds are awarded to develop interventions in an effort to ameliorate the effects of too-early childbearing for teen parents, their babies and their families.

The parenting and healthy relationship skills of the adolescent mothers, extended family members, fathers of their children, husbands, and/or male partners with whom they are in a long-term relationship, are important to ensuring services meet the intent of the legislation. For example, fathers of the adolescent mothers' children, husbands and/or male partners with whom the adolescent mothers are in long-term relationships can be offered case management services and an array of other services that consist of and are not limited to: career and leadership development, entrepreneurial training, tutoring and General Education Degree (GED) preparation, parenting groups, couples groups encouraging healthy relationships leading to marriage, mentoring, community service, cultural activities, and resources for employment. In addition, parents and siblings of the pregnant or parenting adolescent are encouraged to participate in various supportive services that will also help to ensure the welfare of the babies and the adolescent mother.

These grants are for public or private nonprofit organizations or agencies to demonstrate effective means of strengthening families by providing an array of services that help prevent repeat pregnancy and enhance the well being of pregnant or parenting adolescent mothers, their children, fathers of their children, husbands and/or male partners with whom they are in a long-term relationship. Faith-based and community-based organizations are encouraged to apply. See heading “Care Services” for additional information.

Applicants should describe current and proposed efforts to prevent the sexual coercion and exploitation of teens by older partners, as well as management and reporting that comply with State reporting laws regarding child sexual abuse, sexual assault (including statutory rape), incest, or family violence in their proposals. For more information, applicants may access the National Clearinghouse on Child Abuse and Neglect Web site at http://nccanch.acf.hhs.gov.

Special consideration may be granted to underserved areas and populations not currently receiving Title XX funding for care programs. The Deputy Assistant Secretary of Population Affairs (DASPA) has the discretion not to fund current Title XX care and prevention grantees. However, all applicants are required to adhere to the DASPA criteria as set forth in this announcement. If there are multiple applicants from one State, agency collaboration is encouraged. Please note, the DASPA may elect to award one grant per State.

I. Funding Opportunity Description

Care Services

Under this announcement, funds are available for care projects only. The project site or sites must be identified in the application rather than selected after the grant is awarded. Under the Title XX statute, the primary purpose of care programs is to establish innovative, comprehensive, and integrated approaches to the delivery of care services for pregnant adolescents and adolescent parents under 19 years of age at program entry, with primary emphasis on unmarried adolescents who are 17 years old or younger. Care services should promote the healthy involvement of the adolescents' children, extended family members, fathers of their children, husbands, and/or male partners with whom they are in a long-term relationship. The OAPP encourages the submission of care applications which propose to: (1) Add care services to supplement existing adolescent health services in school, hospital or other community settings; (2) provide care services to underserved populations; (3) continue services to clients after the delivery of the baby to enable them to acquire good parenting skills and to ensure that their children are developing physically, intellectually and emotionally; (4) stress self-sufficiency skills, such as school completion (in mainstream or alternative schools and GED programs) and/or job training preparation and placement; (5) involve the adolescents' children, extended family members, fathers of their children, husbands and/or male partners with whom they are in a long-term relationship (e.g., through job training, parenting classes, and counseling); (6) provide education on how to build and maintain healthy relationships, prepare for marriage, parenting and future families; (7) assure identification of mental health concerns and referral to appropriate resources; and (8) provide Sexually Transmitted Infections (STI) and HIV/AIDS awareness and prevention counseling.

Applicants should justify their proposed approach by assessing current literature and describing the lack of existing programming in the community. Applicants should propose projects that will establish better coordination, integration, and linkages among organizations with such existing programs.

Under the statutory requirements of Title XX, applicants for care projects are required to provide, either directly or by referral, the following 10 core services:

(1) Pregnancy testing and maternity counseling;

(2) Adoption counseling and referral services which present adoption as an option for pregnant adolescents, including referral to licensed adoption agencies in the community if the eligible grant recipient is not a licensed adoption agency;

(3) Primary and preventive health services, including prenatal and postnatal care;

(4) Nutrition information and counseling;

(5) Referral for screening and treatment of STIs, including HIV/AIDS;

(6) Referral to appropriate pediatric care;

(7) Educational services relating to family life and problems associated with adolescent premarital sexual relations including:

(a) Information about adoption;

(b) Education on the responsibilities of sexuality and parenting;

(c) The development of material to support the role of parents as the providers of sex education; and

(d) Assistance to parents, schools, youth agencies and health providers to educate adolescents and preadolescents concerning self-discipline and responsibility in human sexuality;

(8) Appropriate educational and vocational services;

(9) Mental health services and referral to mental health services and to other appropriate physical health services; and

(10) Counseling and referral for family planning services.

Note: Funds provided under Title XX may not be used for the provision of family planning services other than counseling and referral services unless appropriate family planning services are not otherwise available in the community. In accordance with sec. 2006(a)(17) of Title XX (42 U.S.C. 300z-5(a)(17)), applicants must make maximum use of funds available under the Title X Family Planning Program in providing this required core service. According to the Title XX legislation (section 2006(a)(18)), “the acceptance by any individual of family planning services or family planning information (including educational materials) * * * shall be voluntary and shall not be a prerequisite to eligibility for or receipt of any other service furnished by the applicant.”

In addition to the 10 required core services listed above, applicants for care projects may provide any of the following supplemental services:

(1) Referral to licensed residential care or maternity home services;

(2) Child care sufficient to enable the adolescent parent to continue education or to enter into employment;

(3) Consumer education;

(4) Counseling for the immediate and extended family members of the eligible person;

(5) Transportation; and

(6) Outreach services to families of adolescents to discourage sexual relations among unemancipated minors.

The applicants proposal must address how each of the ten core services and any supplemental services will be provided, either directly or by referral.

Youth Development or Developmental Assets Approach

Achieving a successful transition into adulthood for adolescents can be difficult and this is particularly so for pregnant and parenting adolescents. Research has clearly shown that future educational and economic prospects for teens decline significantly if they have a baby. Teen pregnancy is closely linked to less than optimal health outcomes for mother and infant, school dropout, lack of job skills, repeat pregnancies, poverty, and unstable home environments. To help address these multiple problems, the OAPP encourages applicants to incorporate youth development concepts into their care programs.

All adolescents need to see hope for their future, acquire the skills necessary to turn hope into reality, and be provided with opportunities to help them reach that reality. Examples of youth development activities in a care program are ones that address school retention and completion, job and vocational training, service learning, community involvement, building and maintaining healthy relationships, marriage preparation, building skills, confidence and self-efficacy, and avoiding health risks such as tobacco, alcohol, drug use, and sexual involvement. These types of activities contribute to strengthening the support systems these young parents need to achieve productive futures. Where possible, adolescents should be an integral part of the design, implementation, and evaluation of this approach. All services provided by AFL grantees, however, including all activities that are part of a youth development approach, must be within the scope of the Title XX care services listed above.

Parental, Family, and Male Involvement

Strengthening families and healthy relationship skills is a primary focus for the OAPP. In the case of adolescent parents, this includes not only providing health, educational, and social services for adolescents who are pregnant or parenting, but also finding ways to ensure the healthy involvement of their children, extended family members, fathers of their children, husbands and/or male partners with whom they are in a long-term relationship. Research has clearly shown the importance of families in the social, emotional, and intellectual growth of children and adolescents. Adolescent parents are still adolescents; they need the involvement and support of their own parents as they continue their transition to adulthood. Applicants should provide services that include the adolescents' children, extended family members, fathers of their children, husbands, and/or male partners with whom they are in a long-term relationship. The involvement of these groups is important to enhance the overall well-being and skills of these individuals within the context of a healthy family.

Goals and Objectives

The Office of Adolescent Pregnancy Programs (OAPP) has 3 cross-site performance measures for AFL Care programs: (1) Reduce the incidence of repeat pregnancies among AFL clients; (2) Increase AFL Care demonstration client conformance with recommended infant immunization schedules; and (3) Increase the educational attainment of AFL Care demonstration project clients. All grantees will be responsible for reporting on these three measures and the applicant should include a program goal(s) statement related to these outcome objectives. Additional programmatic goal(s) and objectives can be proposed, if applicable.

A goal is a general statement of what the project hopes to accomplish. It should reflect the long-term desired impact of the project on the target group(s) as well as reflect the program goals contained in this program announcement. An outcome objective is a statement which defines a measurable result the project expects to accomplish. All outcome objectives, including the performance measures above, should be described in terms that measure how project specific results will be measured. Good applications should contain the 3 OAPP performance measures listed above and no more than 3 additional objectives. Applications should ensure all proposed objectives are specific, measurable, achievable, realistic and time-framed (S.M.A.R.T.).

Specific: An objective should specify one major result directly related to the program goal, state who is going to be doing what, to whom, by how much, and in what time-frame. It should specify what will be accomplished and how the accomplishment will be measured.

Measurable: An objective should be able to describe in realistic terms the expected results and specify how such results will be measured.

Achievable: The accomplishment specified in the objective should be achievable within the proposed time line and as a direct result of program activities.

Realistic: The objective should be reasonable in nature. The specified outcomes, expected results, should be described in realistic terms.

Time-framed: An outcome objective should specify a target date or time for its accomplishments. It should state who is going to be doing what, by when, etc.

The Public Management Institute, How to Get Grants (1981).

Evaluation

Section 2006(b)(1) of Title XX requires each grantee to expend at least one percent, but not more than five percent, of the Federal funds received under Title XX on evaluation of the project. In cases in which a more rigorous or comprehensive evaluation effort is proposed, waivers of the five percent limit on evaluation may be granted by OAPP (see sec. 2006(b)(1)). Under this announcement, the OAPP is requesting applications for evaluation-intensive projects. For evaluation-intensive projects, the OAPP will waive the five percent limit up to a maximum of 20 percent. Evaluation plans that are not evaluation-intensive, according to the following criteria, will be scored accordingly by the external review panel.

1. The evaluation plan should be directly tied to program objectives. Research hypotheses should be clearly stated and reflect the outcomes the program intends to achieve.

2. The evaluation plan should include a process or implementation evaluation. Evaluations in their first year should focus on determining that the intervention is in place, that it is adequately and appropriately staffed, and that it is reaching its intended population.

3. The evaluation plan should have a viable comparison strategy. If a true experimental design with random assignment is not possible, a quasi-experimental design with matched comparison group would be acceptable.

4. The evaluation plan should have a sufficient sample size to ensure that any observed differences between groups are significant. The evaluation plan should propose appropriate statistical analyses.

5. The evaluation plan should measure dosage. Client participation and use of various service components should be carefully tracked so that any differences can be corrected for, or at least taken into account, in discussion of evaluation results.

6. The evaluation plan should include a follow-up assessment and longitudinal tracking of program participants during and after the intervention.

In addition, applications should clearly demonstrate the capacity to participate in a cross-site evaluation, as well as the understanding that use of a core evaluation instrument will be incorporated into the outcome evaluation design. The core instrument has specific questions that will measure the 3 OAPP performance measures. A copy of the core instrument is included in the AFL application kit and may be viewed at http://opa.osophs.dhhs.gov.

Section 2006(b)(2) of Title XX requires that evaluations be conducted by an organization or entity independent of the grantee providing services. To assist in conducting the evaluation, each grantee shall develop a working relationship with an independent evaluator associated with a college or university located in the grantee's state. This evaluator will provide monitoring and evaluation of the proposed program. The OAPP strongly recommends extensive collaboration between the applicant organization and the proposed evaluator. It is important to establish this relationship when preparing the application to ensure that the project's goals and objectives and the evaluation plan are consistent with each other.

Curricula Review

The grantee shall submit all curricula and educational materials for use in the AFL project, whether currently available or to be developed by the grantee to the OAPP for review and approval prior to use in the project. The review shall ensure that the materials are medically accurate, consistent with Title XX policies on religion, and in compliance with the statutory prohibitions against advocating, promoting, encouraging, or providing abortions.

Note: Curricula and educational materials should be identified for this application. Review and approval of curricula and other educational materials are not done until an application is approved for funding. Successful approval of a grant application does not indicate approval of curricula and educational materials for use in a funded project.

II. Award Information

This notice announces the availability of approximately $5 million to support an estimated 13-15 new care demonstration grants, up to a maximum of $375,000 each per year. Any application that proposes funding over the maximum will not be considered. Please note, in Fiscal Year (FY) 2005, the OAPP issued a similar Request for Applications (RFA) announcing approximately $5 million for new care demonstration projects. In response to that RFA, OAPP received 216 grant applications and was able to fund only 14 new projects. Grants may be approved for project periods of up to five years, and are funded in annual increments (budget periods). Funding for all approved budget periods beyond the first year of the grant is contingent upon the availability of funds, satisfactory progress of the project, and adequate stewardship of Federal funds.

Applications are encouraged from organizations which are currently operating programs that are completing their funding cycle, if modifications are made to expand or enhance services for a new demonstration project according to the guidelines specified in this announcement. Existing or previous programs should include information regarding the evaluation outcomes of previous programs. Applications are also encouraged from organizations that have the capability to conduct a rigorous evaluation of the funded project.

III. Eligibility Information

1. Eligible Applicants

Any public or private nonprofit organization or agency is eligible to apply for a grant. However, only those organizations or agencies which demonstrate the capability of providing the proposed services and meet the statutory requirements are considered for grant awards. Faith-based and community-based organizations are encouraged to apply for AFL grants. Please note, however, that AFL funds may not be used for inherently religious activities, such as worship, religious instruction, and proselytization. If an organization engages in such activities, they must be offered separately in time or location from the program funded under the AFL program and participation must be voluntary for program beneficiaries. An AFL program, in providing services and outreach related to program services, cannot discriminate against current or prospective program beneficiaries on the basis of religion, a religious belief, a refusal to hold a religious belief, or a refusal to actively participate in a religious practice.

2. Cost Sharing

Applicants funded under this announcement will be required to match federal funding provided by the OAPP. Section 2005 (c)(2) of Title XX states that an AFL grant award may not exceed 70 percent of the total costs of the project for the first and second years, 60 percent of the total costs for the third year, 50 percent for the fourth year and 40 percent for the fifth year. The AFL non-Federal share of the project costs may be provided in cash expenditures or fairly evaluated in-kind contributions, including facilities, equipment, and services. Generally, other Federal funds may not be used as matching funds. Note, however, that the PHS Grants Policy Statement 9505 (“Non-Federal Sources of Funds”) provides that: “Unless otherwise restricted by legislation or regulation, costs used to satisfy the grantee's matching requirements may be financed from * * * Funds derived either directly or indirectly from Federal sources which are received as fees, payments, or reimbursements for the provision of a specific service, such as patient care reimbursements received under Medicare or Medicaid.”

IV. Application and Submission Information

1. Address To Request Application Package

Application kits may be requested from, and submitted to the OPHS Office of Grants Management, 1101 Wootton Parkway, Suite 550, Rockville, MD 20852, 240-453-8822. Application kits are also available online at the electronic grants management Web site (e-Grants) at https://egrants.osophs.dhhs.gov/ and Grants.Gov at http://www.grants.gov. Applicants may fax a written request to the OPHS Office of Grants Management to obtain a hard copy of the application kit at 240-453-8823.

2. Content and Form of Application

In preparing the application, it is important to follow ALL instructions and public policy requirements provided in the application kit. Applications must be submitted on the forms supplied (OPHS-1, Revised 08/2004) and in the manner prescribed in the application kits provided by the OAPP. Applicants are required to submit an application signed by an individual authorized to act for the applicant agency or organization and to assume for the organization the obligations imposed by the terms and conditions of the grant award. The program narrative must be printed on 8½ by 11 inch white paper, with one-inch margins, double-spaced with an easily readable 12-point font. All pages must be numbered sequentially not including appendices and required forms. The program narrative should not be longer than 50 double-spaced pages, not including appendices and required forms. All pages, figures, and tables must be numbered sequentially. Do not staple or bind the application package. Use rubber bands or binder clips.

The narrative description of the project must contain the following:

One-page Summary: Briefly provide a statement of the proposed demonstration project indicating that this is a CARE demonstration project and whether it is for a local or statewide project; Type of organization applying (school, state agency, voluntary agency, etc.); Geographic area to be served (urban, rural, suburban); Description of target population to be served; Statement of the program intervention; Brief description of the proposed project.

• Description of Applicant Organization: Describe the decision-making authority and structure (e.g. relationship to the Board of Directors), its resources, experience, existing program units and/or those to be established if funding is obtained. This description should cover personnel, time and facilities and contain evidence of the organization's capacity to provide the rapid and effective use of resources needed to conduct the project, collect necessary data and evaluate it.

• Rationale: Describe the rationale for use of the proposed approach based upon previous practice and review of the literature and/or evaluation findings.

• Geographic Area: Describe the geographic area to be served. Document the incidence of adolescent pregnancy, and describe economic conditions, income levels, existing services and unmet needs in the proposed service area.

• Program Outcome Objectives: Provide a clear statement of results or benefits expected that are consistent with the OAPP performance measures. Objectives should be specific, measurable, achievable, realistic, and time-framed.

• Care Services Demonstration Model: Describe the program, including how services will continue to be provided to clients after the birth of the child to enable parents to acquire good parenting skills and to ensure that their children are developing normally physically, intellectually and emotionally. Describe how the applicant will add care services to supplement existing adolescent health services in a school, hospital or other community setting. Describe how the applicant will provide directly, or by referral, each of the required ten core services and any supplemental services as appropriate. As appropriate, state how the project will be coordinated, integrated and linked to existing services within the service area. Describe case management and follow-up procedures. Describe the population, recruitment methods and selection criteria. Describe how the applicant will as appropriate, involve families, voluntary associations, religious and charitable organizations and other groups in the private sector.

• Workplan and Timetable: Provide a year long work plan and timetable, which spans at least three years of program implementation.

• Numbers and Types of Clients: Provide estimates of clients expected to be served during the first year (e.g. adolescent mothers, extended family members, fathers of their children, husbands, and/or male partners with whom they are in a long-term relationship).

• Documentation of Support: Provide a summary of the views of public agencies, providers of services and the general public in the geographical area to be served. Provide documentation of the support from other community agencies.

• Continuation Funding: Describe the plan regarding continuation of services at the termination of this Federal funding.

• Evaluation Plan: The evaluation plan must clearly articulate the program interventions and/or processes to be tested; theory upon which the program intervention is based; proposed questions/hypotheses the evaluation will address; instruments, including information regarding reliability and validity of instruments; sampling plan and data collection schedule; data analysis plan, including statistical tests. Describe how the evaluation is consistent with the program, particularly how data will be used for mid-course corrections and ongoing program improvements. Discuss how the evaluator will ensure confidentiality of the data. Describe the qualitative methodology planned and how it will be integrated with the required quantitative design. Describe how the data will be collected.

• Appendices: Include articles of incorporation and mission statement for private nonprofit organizations. Resumes of key staff and detailed position descriptions. How the project will obtain parental consent. Letters of commitment and support from other providers. Provide evidence of a working agreements with an evaluator affiliated with a college or university located in the applicant's State. The entities to be involved in the evaluation must be identified, their willingness to participate documented, their role (s) described and their capability documented by an attached curriculum vitae. Provide a copy of the table of contents of the proposed curriculum, plus a list of any other instructional materials that will be an integral part of the proposed project.

Applicants must be familiar with Title XX in its entirety to ensure that they have complied with all applicable requirements. A copy of the legislation is included in the application kit.

A Dun and Bradstreet Universal Numbering System (DUNS) number is required for all applications for Federal assistance. Organizations should verify that they have a DUNS number or take the steps necessary to obtain one. Instructions for obtaining a DUNS number are included in the application package, and may be downloaded from the OPA Web site.

3. Submission Dates, Times and Mechanisms

The Office of Public Health and Science (OPHS) provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

Applications may only be submitted electronically via the electronic submission mechanisms specified below. Any applications submitted via any other means of electronic communication, including facsimile or electronic mail, will not be accepted for review. While applications are accepted in hard copy, the use of the electronic application submission capabilities provided by the OPHS eGrants system or the Grants.gov Website Portal is encouraged.

Electronic grant application submissions must be submitted no later than 5 p.m. Eastern Time on the deadline date specified in the DATES section of the announcement using one of the electronic submission mechanisms specified below. All required hardcopy original signatures and mail-in items must be received by the OPHS Office of Grants Management no later than 5 p.m. Eastern Time on the next business day after the deadline date specified in the DATES section of the announcement.

Applications will not be considered valid until all electronic application components, hardcopy original signatures, and mail-in items are received by the OPHS Office of Grants Management according to the deadlines specified above. Application submissions that do not adhere to the due date requirements will be considered late and will be deemed ineligible. Applicants are encouraged to initiate electronic applications early in the application development process, and to submit early on the due date or before. This will aid in addressing any problems with submissions prior to the application deadline.

Electronic Submissions via the OPHS eGrants System

The Grants.gov Website Portal provides organizations with the ability to submit applications for OPHS grant opportunities. Organizations must successfully complete the necessary registration processes in order to submit an application. Information about this system is available on the Grants.gov Web site, http://www.grants.gov.

In addition to electronically submitted materials, applicants may be required to submit hard copy signatures for certain Program related forms, or original materials as required by the announcement. It is imperative that the applicant review both the grant announcement, as well as the application guidance provided within the Grants.gov application package, to determine such requirements. Any required hard copy materials, or documents that require a signature, must be submitted separately via mail to the OPHS Office of Grants Management, and, if required, must contain the original signature of an individual authorized to act for the applicant agency and the obligations imposed by the terms and conditions of the grant award.

Electronic applications submitted via the Grants.gov Website Portal must contain all completed online forms required by the application kit, the Program Narrative, Budget Narrative and any appendices or exhibits. All required mail-in items must received by the due date requirements specified above. Mail-In items may only include publications, resumes, or organizational documentation.

Upon completion of a successful electronic application submission via the Grants.gov Website Portal, the applicant will be provided with a confirmation page from Grants.gov indicating the date and time (Eastern Time) of the electronic application submission, as well as the Grants.gov Receipt Number. It is critical that the applicant print and retain this confirmation for their records, as well as a copy of the entire application package.

All applications submitted via the Grants.gov Website Portal will be validated by Grants.gov. Any applications deemed “Invalid” by the Grants.gov Website Portal will not be transferred to the OPHS eGrants system, and OPHS has no responsibility for any application that is not validated and transferred to OPHS from the Grants.gov Website Portal. Grants.gov will notify the applicant regarding the application validation status. Once the application is successfully validated by the Grants.gov Website Portal, applicants should immediately mail all required hard copy materials to the OPHS Office of Grants Management to be received by the deadlines specified above. It is critical that the applicant clearly identify the Organization name and Grants.gov Application Receipt Number on all hard copy materials.

Once the application is validated by Grants.gov, it will be electronically transferred to the OPHS eGrants system for processing. Upon receipt of both the electronic application from the Grants.gov Website Portal, and the required hardcopy mail-in items, applicants will receive notification via mail from the OPHS Office of Grants Management confirming the receipt of the application submitted using the Grants.gov Website Portal.

Applicants should contact Grants.gov regarding any questions or concerns regarding the electronic application process conducted through the Grants.gov Website Portal.

Electronic Submissions via the OPHS eGrants System

The OPHS electronic grants management system, eGrants, provides for applications to be submitted electronically. Information about this system is available on the OPHS eGrants Web site, https://egrants.osophs.dhhs.gov, or may be requested from the OPHS Office of Grants Management at (240) 453-8822.

When submitting applications via the OPHS eGrants system, applicants are required to submit a hard copy of the application face page (Standard Form 424) with the original signature of an individual authorized to act for the applicant agency and assume the obligations imposed by the terms and conditions of the grant award. If required, applicants will also need to submit a hard copy of the Standard Form LLL and/or certain Program related forms (e.g., Program Certifications) with the original signature of an individual authorized to act for the applicant agency.

Electronic applications submitted via the OPHS eGrants system must contain all completed online forms required by the application kit, the Program Narrative, Budget Narrative and any appendices or exhibits. The applicant may identify specific mail-in items to be sent to the Office of Grants Management separate from the electronic submission; however these mail-in items must be entered on the eGrants Application Checklist at the time of electronic submission, and must be received by the due date requirements specified above. Mail-In items may only include publications, resumes, or organizational documentation.

Upon completion of a successful electronic application submission, the OPHS eGrants system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the OPHS eGrants system to ensure that all signatures and mail-in items are received.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management on or before 5 p.m. Eastern Time on the deadline date specified in the DATES section of the announcement. The application deadline date requirement specified in this announcement supersedes the instructions in the OPHS-1. Applications that do not meet the deadline will be returned to the applicant unread.

4. Intergovernmental Review

Applications for AFL grants must meet both of the following requirements (each year):

(1) Requirements for Review of an Application by the Governor. Section 2006(e) of Title XX requires that each applicant shall provide the Governor of the State in which the applicant is located a copy of each application submitted to the OAPP for a grant for a demonstration project for services under this Title. The Governor has 60 days from the receipt date in which to provide comments to the applicant. An applicant may comply with this requirement by submitting a copy of the application to the Governor of the State in which the applicant is located at the same time the application is submitted to OAPP. To inform the Governor's office of the reason for the submission, a copy of this notice should be attached to the application.

(2) Requirements for Review of an Application Pursuant to Executive Order 12372 (SPOC Requirements). Applications under this announcement are subject to the review requirements of E.O. 12372, “Intergovernmental Review of Federal Programs,” as implemented by 45 CFR part 100, “Intergovernmental Review of Department of Health and Human Services Programs and Activities.” E.O. 12372 sets up a system for state and local government review of proposed Federal assistance applications. As soon as possible, the applicant (other than Federally-recognized Indian tribal governments) should contact the State Single Point of Contact (SPOC) for each state in the area to be served. The application kit contains the currently available listing of the SPOCs which have elected to be informed of the submission of applications. For those states not represented on the listing, further inquiries should be made by the applicant regarding submission to the relevant SPOC. Information about the SPOC is located on the OMB Web site http://www.whitehouse.gov/omb/grants/spoc/html. The SPOC's comment(s) should be forwarded to the OPHS Office of Grants Management, 1101 Wootton Parkway, Suite 550, Rockville, MD 20852. The SPOC has 60 days from the closing date of this announcement to submit any comments.

5. Funding Restrictions

Budget Request: If funding is requested in an amount greater than the ceiling of the award range, the application will be considered non-responsive and will not be entered into the review process. The application will be returned with notification that it did not meet the submission requirements.

Grant funds may be used to cover costs of: Personnel, consultants, equipment, supplies, grant-related travel, and other grant-related costs. Grant funds may not be used for: building alterations or renovations, construction, fund raising activities, and political education and lobbying. Guidance for completing the application can be found in the Program Guidelines, which are included with the complete application kits.

Applicants for discretionary grants are expected to anticipate and justify their funding needs and the activities to be carried out with those funds in preparing the budget and accompanying narrative portions of their applications. The basis for determining the allowability and allocability of costs charged to Public Health Service (PHS) grants is set forth in 45 CFR parts 74 and 92. If applicants are uncertain whether a particular cost is allowable, they should contact the OPHS Office of Grants Management at 240-453-8822 for further information.

6. Other Submission Requirements

Organizations applying for funds under the AFL Demonstration Projects Program must submit documentation of nonprofit status with their applications. If documentation is not provided, the applicant will be considered non-responsive and will not be entered into the review process. The organization will be notified that the application did not meet the submission requirements.

Any of the following serves as acceptable proof of nonprofit status:

• A reference to the applicant organization's listing in the Internal Revenue Service (IRS) most recent listing of tax-exempt organizations described in section 501(c)(3) of te IRS Code.

• A copy of a currently valid IRS tax exemption certificate.

• A statement from a State taking body, State Attorney General, or other appropriate State official certifying that the applicant organization has a nonprofit status and that none of the net earnings accrue to any private shareholders or individuals.

• A certified copy of the organization's certificate of incorporation or similar document that clearly establishes nonprofit status.

• Any of the above proof for a State or national organization and a statement signed by the parent organization that the applicant organization is a local nonprofit affiliate.

V. Application Review Information

1. Criteria

Eligible competing grant applications will be reviewed by a multi-disciplinary panel of independent reviewers and will be assessed according to the following criteria:

(1) The applicant's presentation of a detailed evaluation plan that indicates an understanding of program evaluation methods, reflects a practical and technically sound approach to assessing both the project's implementation and its outcomes, demonstrates the capacity to participate in a cross-site evaluation, and the intent to incorporate the AFL core evaluation instrument into the outcome evaluation design. The applicant's provision of a clear statement of mission, goals, measurable (outcome) objectives, reasonable methods for achieving the objectives. Evaluation activities are included in the proposed workplan and timetable. (30 points)

(2) The applicant's presentation of an organizational model for service delivery with appropriate design, including all 10 core services with the requirements of Title XX. Any supplemental services listed under the above subtitle “Care Services” are also discussed. All services proposed in this part of the project are addressed within an innovative youth development or developmental assets approach. A reasonable workplan and timetable are included. (20 points)

(3) The applicant's presentation of the need for the project, including the incidence of adolescent pregnancy in the geographic area to be served and the availability of services for adolescents within this geographic area. [Healthy People 2010 is a set of health objectives for the Nation to achieve over the first decade of the new century; one goal is to eliminate health disparities. In evaluating this criterion, priority will be given to programs which serve underserved populations.] (10 points)

(4) The applicant's presentation of an innovative, detailed, and viable plan to recruit and retain involvement of the adolescents' children, extended family members, fathers of their children, husbands and/or male partners with whom they are in a long-term relationship. This plan should also include innovative strategies for building healthy relationships, marriages, and families. (10 points)

(5) The capacity of the applicant to implement the program, including personnel and other resources, and the applicant's experience and expertise in providing programs for adolescents, including management and reporting of sexual exploitation and coercion of teens. (10 points)

(6) The population the project proposes to serve including number and type of clients to be served. The applicant must specify how program staff demonstrate responsiveness to the population it serves. (10 points)

(7) The community commitment to, and involvement in, planning and implementation of the project, as demonstrated by letters of commitment and willingness to participate in the project's implementation, acceptance of referrals, etc. (10 points)

2. Review and Selection Process

Final grant award decisions will be made by the Deputy Assistant Secretary for Population Affairs (DASPA). In making these decisions, the DASPA will take into account the extent to which applications recommended for approval will provide an appropriate geographic distribution of resources, the priorities in sec. 2005(a), and other factors including:

(1) Recommendations and scores of applications submitted by the review panels;

(2) The geographic area to be served, particularly the underserved areas and populations;

(3) The reasonableness of the estimated cost of the project based on factors such as the incidence of adolescent pregnancy in the geographic area to be served and the availability of services for adolescents in this geographic area;

(4) The adequacy of the evaluation plan, including incorporation of the six evaluation criteria listed in the “Evaluation” section of this announcement, and the demonstrated ability to participate successfully in a cross-site evaluation.

Special consideration may be granted to underserved areas and populations not currently receiving Title XX funding for care programs. The DASPA has the discretion not to consider, for this announcement, current Title XX care and prevention grantees who are already funded under the Title XX program. However, all applicants are required to adhere to the DASPA criteria as set forth in this announcement. If there are multiple applicants from one State, agency collaboration is encouraged. Please note, the DASPA may elect to award one grant per State.

3. Anticipated Announcement and Award

The OAPP anticipates announcing and awarding grantees under this announcement by September 30, 2006.

VI. Award Administration Information

1. Award Notices

The OAPP does not release information about individual applications during the review process until final funding decisions have been made. When final funding decisions have been made, the applicant's authorized representative will be notified of the outcome of their application by postal mail. The official document notifying an applicant that an application has been approved for funding is the Notice of Grant Award signed by the Grants Management Officer, which specifies to the grantee the amount of money awarded, the purposes of the grant, the length of the project period, terms and conditions of the grant award, and the amount of funding to be contributed by the grantee to project costs.

2. Administrative and National Policy Requirements

The regulations set out at 45 CFR parts 74 and 92 are the Department of Health and Human Services (HHS) rules and requirements that govern the administration of grants. Part 74 is applicable to all recipients except those covered by part 92, which governs awards to state and local governments. Applicants funded under this announcement must be aware of and comply with these regulations. The CFR volume that includes parts 74 and 92 may be downloaded from http://www.access.gpo.gov/nara/cfr/waisidx_03/45cfrv1_03.html.

The HHS Appropriations Act requires that when issuing statements, press releases, requests for proposals, bid solicitations, and other documents describing projects or programs funded in whole or in part with Federal money, all grantees shall clearly state the percentage and dollar amount of the total costs of the program or project which will be financed with Federal money and the percentage and dollar amount of the total costs of the project or program that will be financed by non-governmental sources.

3. Reporting

Applicants funded under this grant announcement will be required to electronically submit an End-of-Year Program, Evaluation and Financial report 90 days after the grant budget period ends.

VII. Agency Contacts

Administrative and Budgetary Contacts Requirements

For information related to administrative and budgetary requirements, contact the OPHS Office of Grants Management, 1101 Wootton Parkway, Suite 550, Rockville, MD 20852; 240-453-8822.

Program Contacts Requirements

For information related to the OAPP program requirements, the OAPP staff are available at 240-453-2828 to answer questions and provide technical assistance on the preparation of grant applications. Questions may also be directed to the OAPP staff via e-mail at http://oapp@osophs.dhhs.gov. If contacting the OAPP by e-mail, please include the phrase “AFL Care Question” in the subject heading.

VIII. Other Information

Protection of Human Subjects Regulations

The applicant must comply with the HHS Protection of Human Subjects regulations (which require obtaining Institutional Review Board approval), set out at 45 CFR part 46, if applicable. General information about Human Subjects regulations can be obtained through the Office for Human Research Protections (OHRP) at http://www.hhs.gov/ohrp, ohrp@osophs.dhhs.gov, or toll free at (866) 447-4777.

Technical Assistance

The OAPP is committed to providing technical assistance to help prospective applicants at no cost. The OAPP anticipates offering both in-person technical assistance workshops at three locations across the country, and an interactive on-line workshop to provide such assistance through a teleconference. These one-day workshops will assist the public in learning more about the purposes and requirements of the Title XX program, the application process, budgeting information, and considerations that might help to improve the quality of grant applications. The OAPP encourages applicants to have appropriate agency staff members and a financial representative participate in the workshop. In order to participate in the teleconferencing workshop, participants must have a computer with internet access and a telephone. Participants will be able to ask questions and receive pertinent feedback during this workshop via the computer.

With respect to both the in-person and interactive on-line workshops, applicants should check the OPA website for workshop and registration information. All participants must pre-register for the workshops. Participants may pre-register on-line at http://www.est-oappta.com. Participants that do not have access to the Internet may call Enterprise Services and Technologies, Incorporated, the technical assistance contractor for the OAPP at 301-585-6046 to request a registration form. Completed registration forms should be faxed to ATTN: OAPP RFA Workshop at 301-941-1847, or you may insert OAPP RFA Workshop into the subject line and e-mail the form to a.suggs@ent-s-t-com. Upon receipt of the applicant's request, the specific workshop information and logistical information will be faxed or emailed for the workshop specified by the participant. The OAPP anticipates conducting the in-person technical workshops in April 2006. Applicants should visit the OPA website for further information on dates and times. The interactive on-line workshop will be conducted live by May 26, 2006. If a prospective applicant cannot attend the live interactive on-line workshop, the transcripts of the workshop will be available on-line at http://opa.osophs.dhhs.gov until the closing date of this announcement.

Annual Conference and Training

Each year, the OAPP hosts an annual grantee conference for care grantees. The Project Director and Evaluator are expected to attend and/or participate in the annual conference. In addition, the OAPP offers technical assistance and training to improve the caliber and professionalism of front-line staff. The Project Director, Evaluator and front-line staff are expected to participate in OAPP sponsored technical assistance workshops.

Dated: March 9, 2006.
Alma L. Golden,
Deputy Assistant Secretary for Population Affairs.

[FR Doc. 06-2804 Filed 3-22-06; 8:45 am]

BILLING CODE 4150-30-P